DEPARTMENT OF COMMERCE

Foreign-Trade Zones Board

[S-35-2018]

Approval of Expanded Subzone Status, Subzone 231A, Medline Industries, Inc., Manteca, Stockton and Tracy, California

On February 15, 2018, the Executive Secretary of the Foreign-Trade Zones (FTZ) Board docketed an application submitted by the Port of Stockton, California, grantee of FTZ 231, requesting expanded subzone status subject to the existing activation limit of FTZ 231, on behalf of Medline Industries, Inc., in Manteca, Stockton and Tracy, California. The application is also requesting that Site 1 of the subzone be removed, as it is no longer used by the company.

The application was processed in accordance with the FTZ Act and Regulations, including notice in the Federal Register inviting public comment (83 FR 8242-8243, February 26, 2018). The FTZ staff examiner reviewed the application and determined that it meets the criteria for approval. Pursuant to the authority delegated to the FTZ Board Executive Secretary (15 CFR Sec. 400.36(f)), the application to expand Subzone 231A was approved on May 21, 2018, subject to the FTZ Act and the Board's regulations, including Section 400.13, and further subject to FTZ's 2,000-acre activation limit.

Dated: May 21, 2018.
Elizabeth Whiteman,
Acting Executive Secretary.

[FR Doc. 2018-11303 Filed 5-24-18; 8:45 am]

BILLING CODE 3510-DS-P